DEPARTMENT OF EDUCATION

National Assessment Governing Board

Meeting

AGENCY: National Assessment Governing Board, Department of Education.

ACTION: Notice of open and closed virtual meetings.

SUMMARY: This notice sets forth the agenda for the National Assessment Governing Board (hereafter referred to as Governing Board) meeting scheduled for August 5-6, 2021. This notice provides information about the meeting to members of the public who may be interested in attending and/or providing written comments related to the work of the Governing Board. Notice of this meeting is required under the Federal Advisory Committee Act (FACA).

ADDRESSES: In-person attendance for this meeting is for members and staff due to COVID-19 social distancing requirements. Governing Board members and staff will meet at the Tysons Corner Ritz-Carlton, 1700 Tysons Boulevard, McLean, VA 22102. Virtual attendance for all Governing Board open sessions will be accessible to members of the public who register per the instructions provided in the SUPPLEMENTARY INFORMATION section of this notice.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION: Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Standing Committee Meetings

The Governing Board's standing committees will meet to conduct regularly scheduled work planned for this Quarterly Board Meeting and any items undertaken by committees for consideration by the full Governing Board. (Please see committee meeting minutes for previous meetings, available at https://www.nagb.gov/governing-board/quarterly-board-meetings.html.) Committee meeting agendas will be posted on the Governing Board's website www.nagb.gov five business days prior to the meetings. Online registration for virtual access to the pen sessions of the Governing Board and committee meetings will also be posted at www.nagb.gov five working days prior to each meeting.

Thursday, July 22, 2021

Reporting and Dissemination Committee

3:00 p.m.-5:00 p.m. (Open Session)

Wednesday, July 28, 2021

Nominations Committee

5:30 p.m.-6:30 p.m. (Closed Session)

Tuesday, August 3, 2021

Committee on Standards, Design & Methodology

1:00 p.m.-1:40 p.m. (Closed Session)

1:40 p.m.-3:00 p.m. (Open Session)

Thursday, August 5, 2021

Assessment Development Committee

9:00 a.m. to 10:00 a.m. (Open Session)

Thursday, August 5, 2021

Executive Committee Meeting

10:00 a.m.-11:30 a.m. (Open Session)

11:30 a.m.-12:00 p.m. (Closed Session)

Quarterly Governing Board Meeting

The plenary sessions of the August 5-6, 2021 quarterly meeting of the Governing Board will be held on the following dates and times:

Thursday, August 5, 2021: Open Meeting: 1:15 p.m.-5:30 p.m.

Friday, August 6, 2021: Closed Meeting: 10:00 a.m.-1:15 p.m.; Open Meeting: 2:15 p.m.-4:00 p.m.

August 5, 2021: Open Meetings

On Thursday, August 5, 2021, the Governing Board will meet in open session from 1:15 p.m. to 5:30 p.m. From 1:15 p.m. to 1:30 p.m., Chair Haley Barbour will welcome members, review and approve the August 5-6, 2021 quarterly Governing Board meeting agenda, and approve minutes from the May 14-15, 2021 quarterly Governing Board meeting.

From 1:30 p.m. to 1:45 p.m., Lesley Muldoon, Executive Director of the Governing Board, will provide an update on ongoing work, followed by an update from the National Center for Education Statistics (NCES) from 1:45 p.m. to 2:15 p.m.

From 2:15 p.m. to 2:45 p.m., the Chairs of Standing Committees will provide updates on ongoing work. Two action items will be presented for Governing Board vote based on recommendations made by the Executive Committee—the nomination for Governing Board Vice Chair for the term October 1, 2021-September 30, 2022, and a recommendation to change the Long-Term Trend Administration in 2022 from 17-year-olds to 9-year-olds.

After a 15-minute break, from 3:00 p.m. to 4:00 p.m., the Governing Board will meet in open session to discuss and take action on the NAEP Reading Framework. From 4:00 p.m. to 5:30 p.m., the Governing Board will receive an overview of the Technology and Engineering Literacy Assessment.

The Thursday, August 5, 2021 session of the Governing Board meeting will adjourn at 5:30 p.m.

August 6, 2021

On Friday, August 6, 2021, the Governing Board meeting will convene in two closed sessions from 12:30 p.m. to 1:15 p.m. and thereafter in open session from 2:15 p.m. to 4:00 p.m.

The first closed session will convene from 10:00 a.m. to 11:30 a.m. to receive a briefing from Peggy Carr, Associate Commissioner of NCES, and Lesley Muldoon on the NAEP Budget and Assessment Schedule. The briefing and Governing Board discussions may affect current and future NAEP contracts and budgets and must be kept confidential to maintain the integrity of the federal acquisition process. Public disclosure of this confidential information would significantly impede implementation of the NAEP assessment program if conducted in open session. Such matters are protected by exemption 9(B) of § 552b(c) of Title 5 of the United States Code.

The second closed session will convene from 11:45 a.m. to 1:15 p.m. to receive briefings from NCES on two upcoming releases—the Long-Term Trend Assessment and the High School Transcript Study. This session must be closed because both sets of results are not yet publicly released. Such matters are protected by exemption 9(B) of § 552b of Title 5 U.S.C.

The Governing Board will reconvene in open session from 2:15 p.m. to 3:30 p.m. to receive a briefing from Ebony Walton, NCES, on understanding patterns of similar NAEP results across different subject areas. Following this session, from 3:30 p.m. to 4:00 p.m., departing members whose terms of service will end on September 30, 2021 will provide farewell remarks. The August 6, 2021 session of the Governing Board meeting will adjourn at 4:30 p.m.

The Quarterly Board meeting and committee meeting agendas, together with meeting materials will be posted on the Governing Board's website at www.nagb.gov no later than five working days prior to each meeting.

Virtual attendance for all open sessions will be accessible to members of the public via online registration only at www.nagb.gov 5 business days prior to each meeting.

Access to Records of the Meeting: Pursuant to FACA requirements, the public may also inspect the meeting materials at www.nagb.gov five business days prior to each meeting. The official verbatim transcripts of the public meeting sessions will be available for public inspection no later than 30 calendar days following each meeting.

Reasonable Accommodations: The meeting is accessible to individuals with disabilities. If you will need an auxiliary aid or service to participate in the meeting (e.g., interpreting service, assistive listening device, or materials in an alternate format), notify the contact person listed in this notice no later than ten working days prior to each meeting. Written comments related to the work of the Governing Board may be submitted electronically or in hard copy to the attention of the Executive Officer/Designated Federal Official (see contact information noted above).

Public Participation: Members of the public may virtually attend and attend in person all open sessions of the standing committee and full Governing Board meetings via advance registration. A link to the registration page will be posted on www.nagb.gov five business days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, Title III—National Assessment of Educational Progress § 301.

Lesley Muldoon,
Executive Director, National Assessment Governing Board (NAGB), U.S. Department of Education.

[FR Doc. 2021-15764 Filed 7-22-21; 8:45 am]

BILLING CODE 4000-01-P